DEPARTMENT OF HEALTH AND HUMAN SERVICES

Food and Drug Administration

Request for Nominations for Voting Members on Public Advisory Committee, Veterinary Medicine Advisory Committee

AGENCY: Food and Drug Administration, HHS.

ACTION: Notice.

The Food and Drug Administration (FDA) is requesting nominations for voting members to serve on the Veterinary Medicine Advisory Committee (VMAC), Center for Veterinary Medicine (CVM).

FDA has a special interest in ensuring that women, minority groups, and individuals with disabilities are adequately represented on advisory committees and, therefore, encourages nominations of qualified candidates from these groups.

DATES: Nominations received on or before October 30, 2007, will be given first consideration for membership on the Veterinary Medicine Advisory Committee. Nominations received after October 30, 2007, will be considered for nomination to the committee should nominees still be needed.

ADDRESSES: All Nomination for membership should be sent electronically to CV@FDA.HHS.GOV, or by mail to Advisory Committee Oversight & Management Staff, 5600 Fisher Lane, HF-4, rm. 15A-12, Rockville, MD 20857.

FOR FURTHER INFORMATION CONTACT: Regarding all nomination questions for membership, the primary contact is Aleta Sindelar, Center for Veterinary Medicine (HFV-6), Food and Drug Administration, 7519 Standish Pl., Rockville, MD 20855, 240-276-9004, FAX: 240-276-9020, e-mail: Aleta.Sindelar@FDA.HHS.GOV. Information about becoming a member on a FDA advisory committee can also be obtained by visiting FDA's Web site by using the following link http://www.fda.gov/oc/advisory/default.htm.

SUPPLEMENTARY INFORMATION: FDA is requesting nomination for voting members on the Veterinary Medicine Advisory Committee.

I. Function of the Veterinary Medicine Advisory Committee

The Committee reviews and evaluates available data concerning the safety and effectiveness of marketed and investigational new animal drugs, feeds, and devices for use in the treatment and prevention of animal diseases and increased animal production, and makes appropriate recommendations to the Commissioner of Food and Drugs regarding scientific issues and regulatory policies.

II. Criteria for Voting Member

FDA is requesting nominations of voting members with appropriate expertise in the following veterinary specialties: companion animal medicine, food animal medicine (avian, bovine, porcine and minor species), microbial food safety and risk assessment, biometrics, toxicology, pathology, pharmacology, animal science, epidemiology.

III. Nomination Procedures

Any interested person may nominate one or more qualified persons for membership on one the advisory committee. Self-nominations are also accepted. Nominations shall include the name of the committee, a complete curriculum vitae of each nominee, and their current business address and telephone number and e-mail address if available. Each nomination shall state that the nominee is aware of the nomination, is willing to serve as a member, and appears to have no conflict of interest that would preclude membership. FDA will ask the potential candidates to provide detailed information concerning such matters as financial holdings, employment, and research grants and/or contracts to permit evaluation of possible sources of conflict of interest.

This notice is issued under the Federal Advisory Committee Act (5 U.S.C. app.2) and 21 CFR part 14 relating to advisory committees.

Dated: September 13, 2007.
Randall W. Lutter,
Deputy Commissioner for Policy.

[FR Doc. E7-19130 Filed 9-26-07; 8:45 am]

BILLING CODE 4160-01-S